DEPARTMENT OF THE INTERIOR

Fish and Wildlife Service

[FWS-R3-ES-2020-N035; FXES11130300000-201-FF03E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before April 13, 2020.

ADDRESSES: Document availability and comment submission: Submit requests for copies of the applications and related documents, as well as any comments, by one of the following methods. All requests and comments should specify the applicant name(s) and application number(s) (e.g., TEXXXXXX):

• Email: permitsR3ES@fws.gov. Please refer to the respective application number (e.g., Application No. TEXXXXXX) in the subject line of your email message.

• U.S. Mail: Regional Director, Attn: Nathan Rathbun, U.S. Fish and Wildlife Service, Ecological Services, 5600 American Blvd. West, Suite 990, Bloomington, MN 55437-1458.

FOR FURTHER INFORMATION CONTACT: Nathan Rathbun, 612-713-5343 (phone); permitsR3ES@fws.gov (email). Individuals who are hearing or speech impaired may call the Federal Relay Service at 1-800-877-8339 for TTY assistance.

SUPPLEMENTARY INFORMATION:

Background

The Endangered Species Act of 1973, as amended (ESA; 16 U.S.C. 1531 et seq.), prohibits certain activities with endangered and threatened species unless authorized by a Federal permit. The ESA and our implementing regulations in part 17 of title 50 of the Code of Federal Regulations (CFR) provide for the issuance of such permits and require that we invite public comment before issuing permits for activities involving endangered species.

A recovery permit issued by us under section 10(a)(1)(A) of the ESA authorizes the permittee to conduct activities with endangered species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

We invite local, State, and Federal agencies; Tribes; and the public to comment on the following applications.

Application No. | Applicant | Species | Location | Activity | Type of take | Permit action
TE54397C | Keifer L. Titus, Clemson, SC | Add: gray bat (Myotis grisescens), Virginia big-eared bat (Plecotus townsendii virginianus) to existing permitted species: Indiana bat (M. sodalis), northern long-eared bat (M. septentrionalis) | Add: new locations—AL, AR, CT, DE, DC, FL, GA, IL, IA, KS, KY, LA, MA, ME, MD, MI, MN, MS, MO, MT, NE, NH, NJ, NY, NC, ND, OH, OK, PA, RI, SC, SD, TN, VT, VA, WV, WI, WY—to existing authorized locations: IN | Conduct presence/absence surveys, document habitat use, conduct population monitoring, evaluate impacts | Capture, handle, mist-net, band, radio-tag, release | Amend, renew.
TE89558A | Shannon Romeling, Taos, NM | Gray bat (Myotis grisescens), Indiana bat (M. sodalis), northern long-eared bat (M. septentrionalis), Ozark big-eared bat (Corynorhinus towsendii ingens), Virginia big-eared bat (C.t. virginianus) | AL, AR, CT, DE, DC, FL, GA, IL, IN, IA, KS, KY, LA, ME, MD, MA, MI, MN, MS, MO, NE, NH, NJ, NY, NC, ND, OH, OK, PA, RI, SC, SD, TN, TX, VT, VA, WV, WI, WY | Conduct presence/absence surveys, document habitat use, conduct population monitoring, evaluate impacts | Capture, handle, mist-net, harp trap, band, radio-tag, release | Renew.
TE06801A | Pittsburgh Wildlife & Environment, Inc., McDonald, PA | Gray bat (Myotis grisescens), Indiana bat (M. sodalis), northern long-eared bat (M. septentrionalis) | Add new locations—LA, NE, ND, SD—to existing authorized locations: AL, AR, FL, GA, IL, IN, IA, KS, KY, MI, MS, MO, NJ, NY, NC, OH, OK, PA, SC, TN, VA, WV, WI | Conduct presence/absence surveys, document habitat use, conduct population monitoring, evaluate impacts | Capture, handle, mist-net, harp trap, band, radio-tag, enter hibernacula or maternity roost caves, release | Amend.
TE70020D | NextEra Energy Bluff Point, LLC, Juno Beach, FL | Indiana bat (Myotis sodalis), northern long-eared bat (M. septentrionalis) | Jay and Randolph Counties, IN | Conduct scientific research on the impacts of wind turbine rolling-average cut-in speed, population management and monitoring | Harass, kill, salvage | New.
TE13580D | Julia Wilson, Bloomington, IN | Add Gray bat (Myotis grisescens) to existing permitted species: Indiana bat (M. sodalis), northern long-eared bat (M. septentrionalis) | Add new locations—AL, AR, FL, GA, KS, KY, MS, NC, OK, TN, VA—to existing authorized locations: CT, DE, DC, IL, IN, IA, LA, ME, MD, MA, MI, MN, MO, MT, NE, NH, NJ, NY, ND, OH, PA, RI, SC, SD, VT, WV, WI, WY | Conduct presence/absence surveys, document habitat use, conduct population monitoring, evaluate impacts; conduct scientific research—assess seasonal behavior, hibernation locations, evaluate white-nose syndrome exposure, population structure and movement | Add new activities—harp trap, enter hibernacula or maternity roost caves, collect hair, guano, wing biopsy, wing swab samples—to existing authorized activities: Capture, handle, mist-net, band, radio-tag, release | Amend.
TE72093B | Rebecca Winterringer, Euclid, OH | Add Dwarf wedgemussel (Alasmidonta heterodon), James spinymussel (Pleurobema collina), Appalachian monkeyface (Quadrula sparsa), birdwing pearlymussel (Lexiox rimosus), cracking pearlymussel (Hemistena lata), Cumberland bean (Villosa trabalis), Cumberland monkeyface (Quadrula intemedia), Dromedary pearlymussel (Dromus dromas), finerayed pigtoe (Fusconaia cuneolus), fluted kidneyshell (Ptychobranchus subtentum), green blossom (Epioblasma torulosa gubernaculum), littewing pearlymussel (Pegias fabula), oyster mussel (Epioblasma capsaeformis), purple bean (Villosa perpurpurea), rough pigtoe (Pleurobema plenum), shiny pigtoe (Fusconaia cor), slabside pearlymussel (Lexingtonia dolabelloides), tan riffleshell (Epioblasma florentina walker), and yellow lance (Ellipto lanceolata), to existing permitted species: 17 freshwater mussel species | AL, AR, IL, IN, KY, MI, MO, OH, OK, TN | Conduct presence/absence surveys, document habitat use, conduct population monitoring, evaluate impacts | Capture, handle, temporary hold, release | Amend.
TE02373A | Environmental Solutions & Innovations, Inc., Cincinnati, OH | Rusty patched bumble bee (Bombus affinis), eastern massasauga rattlesnake (Sistruus catenatus), and multiple plant, insect, crustacean, mussel, bat species | AL, AR, CT, DE, D.C., GA, IL, IN, IA, KS, KY, LA, ME, MD, MA, MI, MN, MS, MO, MT, NE, NH, NJ, NY, NC, ND, OH, OK, PA, RI, SC, SD, TN, VT, VA, WV, WI, WY | Conduct presence/absence surveys, document habitat use, conduct population monitoring, evaluate impacts | Add new rusty patched bumble bee activities—non-lethal external mite, tarsal clipping, serum sample, and pollen load collection, mark, tag, gel sampling, hold males for sperm collection—to existing authorized activities: Capture, release, salvage | Amend.
TE53616C | Illinois Natural History Survey, Champaign, IL | Rusty patched bumble bee (Bombus affinis) | IL | Conduct presence/absence surveys, document habitat use, conduct population monitoring, evaluate impacts | Add new activities—DNA, fecal, pollen sampling—to existing authorized activities: Capture, handle, release | Amend.
TE70019D | Little Traverse Bay Bands of Odawa Indians, Harbor Springs, MI | Hungerford's crawling water beetle (Brychius hungerfordi) | MI | Conduct presence/absence surveys, document habitat use, conduct population monitoring, evaluate impacts | Collect, transport, relocate, release | New.
TE69825D | Michigan State University, Hickory Corners, MI | Poweshiek skipperling (Oarisma poweshiek) | MI | Conduct presence/absence surveys, document habitat use, captive rearing, conduct population monitoring, evaluate impacts | Capture, handle, long-term hold, captive rear, release | New.
TE70018D | St. Louis River Alliance, Duluth, MN | Piping plover (Charadrius melodus) | WI | Conduct presence/absence surveys, document habitat use, conduct population monitoring, evaluate impacts | Capture, handle, band, temporary hold, captive rear abandoned eggs and chicks, erect active nest enclosure, release, salvage | New.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. Moreover, all submissions from organizations or businesses, and from individuals identifying themselves as representatives or officials of organizations or businesses, will be made available for public disclosure in their entirety.

Next Steps

If we decide to issue permits to any of the applicants listed in this notice, we will publish a notice in the Federal Register.

Authority: We publish this notice under section 10(c) of the Endangered Species Act of 1973, as amended (16 U.S.C. 1531 et seq.).

Lori Nordstrom,
Assistant Regional Director, Ecological Services.

[FR Doc. 2020-05110 Filed 3-12-20; 8:45 am]

BILLING CODE 4333-15-P